DEPARTMENT OF AGRICULTURE

Rural Housing Service

7 CFR Part 3570

RIN 0575-AC75

Community Facilities Grant Program

AGENCY: Rural Housing Service, USDA.

ACTION: Interim final rule with request for comments.

SUMMARY: This rule sets forth the regulation changes for the Community Facilities Grant program, which is available to rural communities impacted by a Presidentially declared disaster. The rule establishes the requirements to qualify for additional funding.

This rule is being issued on an emergency basis due to the severe economic and social conditions caused by disasters, which occur every year in rural America. In order to prepare for these disasters, this rule is being published before the Spring/Summer disasters strike. This will allow USDA to target limited funds to the most devastated communities/counties in rural areas. The revisions will allow USDA to increase potential funding for several essential community facilities in rural communities already designated as a Presidential disaster area.

DATES: This rule will be effective on March 17, 2008.

Written comments on the interim final rule must be submitted on or before May 16, 2008.

ADDRESSES: You may submit comments to this rule by any of the following methods:

• Federal eRulemaking Portal: http://www.regulations.gov. Follow the instructions for submitting comments.

• Mail: Submit written comments via the U.S. Postal Service to the Branch Chief, Regulations and Paperwork Management Branch, U.S. Department of Agriculture, STOP 0742, 1400 Independence Avenue, SW., Washington, DC 20250-0742.

• Hand Delivery/Courier: Submit written comments via Federal Express Mail or other courier service requiring a street address to the Branch Chief, Regulations and Paperwork Management Branch, U.S. Department of Agriculture, 300 7th Street, SW., 7th Floor, Washington, DC 20024.

FOR FURTHER INFORMATION CONTACT: Chad Parker, Director, Direct Loan and Grant Division, Community Programs; USDA Rural Development, United States Department of Agriculture, STOP 0787, 1400 Independence Avenue, SW., Washington, DC 20250; telephone (202) 720-1502; e-mail: Chad.Parker@wdc.usda.gov.

SUPPLEMENTARY INFORMATION:

Executive Order 12866

This rule has been determined to be not significant under Executive Order 12866 and, therefore, has not been reviewed by the Office of Management and Budget.

Regulatory Flexibility Act

This rule is not subject to the Regulatory Flexibility Act since the Rural Housing Service is not required to publish a notice of proposed rulemaking for this rule.

Environmental Review

The environmental impacts of this rule have been considered in accordance with the provisions of the National Environmental Policy Act of 1969 (NEPA), 42 U.S.C. 4321 et seq., the regulations of the Council on Environmental Quality (40 CFR parts 1500-1508), the Rural Housing Service regulations for compliance with NEPA at 7 CFR part 1940, subpart G. The regulatory changes were determined to have no potential impact upon the human and natural environment because the changes only impact the amount of funding that a potential project is eligible for, not the selection for funding or the establishment of an essential community facility.

Executive Order 12372

This program is not subject to the provisions of Executive Order 12372. The Community Facilities Grant program is not listed as a participating in the intergovernmental review process as delineated in RD Instruction 1940, Subpart J, § 1940.453.

Executive Order 13132

This rule does not have Federalism implications that warrant the preparation of a Federalism Assessment. This rule will not have a substantial direct effect on States or their political subdivisions or on the distribution of power and responsibilities among the various levels of government.

Executive Order 12988

This rule has been reviewed in accordance with Executive Order 12988. This interim rule is not retroactive and it does not pre-empt State law.

Unfunded Mandates Reform Act

This rule contains no Federal mandates under the regulatory provisions of Title II of the UMRA for State, local, and tribal government or the private sector. Therefore, this rule is not subject to the requirements of sections 202 and 205 of the UMRA.

Programs Affected

The affected program is listed in the Catalog of Federal Domestic Assistance under Number 10.766, Community Facilities Loans and Grants.

Paperwork Reduction Act

There are no new requirements associated with this rule. USDA Rural Development does not expect to receive any additional applications due to this regulatory change. Applications that would have been eligible for a certain percentage of the project through Community Facilities grants will now be able to apply for a higher percentage if the community has been impacted by a Presidentially declared disaster and has had a 60 percent loss of the communities population.

E-Government Act Compliance

USDA Rural Development is committed to complying with the E-Government Act to promote the use of the Internet and other information technologies to provide increased opportunities for citizen access to Government information and services, and for other purposes. For information pertinent to E-GOV compliance related to this rule, please contact Chad Parker, Director, Direct Loan and Grant Division, Community Programs; USDA Rural Development, United States Department of Agriculture, STOP 0787, 1400 Independence Avenue, SW., Washington, DC 20250; telephone (202) 720-1502; e-mail: Chad.Parker@wdc.usda.gov.

Discussion of Interim Rule

The rule is effective immediately because Federal Emergency Management Agency (FEMA) requirements that plan for use of FEMA funds must be submitted within one year after a disaster has occurred. Several disasters have occurred in the past year and the eligible timeframe for project submission to FEMA for these disaster areas will close in the near future. Community Facilities Grant funds are needed as part of the total funding package to complete several of these essential community facilities.

This interim final rule implements regulatory changes for the Community Facilities Grant program. The present USDA regulation requires that data from the most recent decennial Census of the United States be used to determine the percentage of grant funds that a project is eligible for in a particular rural community. If there is reason to believe that the census data is not an accurate representation of the present conditions within the area to be served, this will be documented and reliable data from local, regional, State, or Federal sources or from a survey conducted by a reliable impartial source may be used. USDA has found that often rural communities impacted by a Presidential declared disaster, where a 60 percent decline in the rural community's population occurs, do not have the resources or employees to develop the survey data with so many other immediate concerns. The regulatory change will allow USDA to look at population loss, a much more readily available figure to more quickly ascertain the extent of the damage to the economic well-being of the rural community.

The interim final rule will only impact projects in communities that were already eligible for Community Facilities funding. The only communities affected by the rule are communities impacted by a Presidentially declared disaster with a 60 percent loss in population. The interim final rule will allow USDA to consider the impact of such a disaster and increase the percentage of grant funds available to projects in the impacted rural communities. Under the interim final rule, communities impacted by a disaster that has resulted in a loss of 60 percent of the community's population and is located in a rural community designated as a major disaster area by the President will be eligible for up to 60 percent of eligible project cost under the Community Facilities Grant program.

List of Subjects for 7 CFR Part 3570

Accounting, Administrative practice and procedure, Conflicts of interests, Environmental impact statements, Fair housing and civil rights laws, Grant programs—Housing and community development, Loan programs—Housing and community development, Rural areas, Subsidies.

Therefore, chapter XXXV, title 7, Code of Federal Regulations, is amended as follows.

PART 3570—COMMUNITY PROGRAMS

1. The authority citation for part 3570 continues to read as follows:

Authority: 5 U.S.C. 301; 7 U.S.C. 1989.

Subpart B—Community Facilities Grant Program

2. Section 3570.63 is amended by redesignating paragraph (b)(5) as paragraph (b)(6), adding a new paragraph (b)(5), and revising newly designated paragraph (b)(6) to read as follows:

§ 3570.63 Grant limitations.

* * * * *

(b) * * *

(5) 60 percent when the proposed project is:

(i) Located in a rural community having a population of 20,000 or less; and

(ii) The median household income of the population to be served by the proposed facility is below the higher of the poverty line or 90 percent of the State non-metropolitan median household income. The 60 percent grants are only available to communities impacted by a disaster that has resulted in a loss of 60 percent of the community's population and is located in a rural community designated as a major disaster area by the President.

(6) Grant assistance cannot exceed the higher of the applicable percentages contained in this section which the applicant is eligible to receive and may be further limited due to availability of funds or by the maximum grant assistance allowable determined in accordance with § 3570.66.

Dated: March 10, 2008.
Russell T. Davis,
Administrator, Rural Housing Service.

[FR Doc. E8-5271 Filed 3-14-08; 8:45 am]

BILLING CODE 3410-XV-P